DEPARTMENT OF COMMERCE

National Oceanic and Atmospheric Administration

Meeting: Climate Change Science Program (CCSP) Product Development Committee (CPDC) for Synthesis and Assessment Product 5.3

AGENCY: Office of Oceanic and Atmospheric Research (OAR), National Oceanic and Atmospheric Administration (NOAA), Department of Commerce (DOC).

ACTION: Notice of open meeting.

SUMMARY: The Climate Change Science Program (CCSP) Product Development Committee for Synthesis and Assessment Product 5.3 (CPDC-S&A 5.3) was established by a Decision Memorandum dated October 12, 2006. CPDC-S&A 5.3 is the Federal Advisory Committee charged with responsibility to develop a draft Synthesis and Assessment Product that addresses CCSP Topic 5.3: “Decision Support Experiments and Evaluations Using Seasonal to Interannual Forecasts and Observational Data”.

Place: The meeting will be held at the Southwest Center, 1052 North Highland Ave, University of Arizona, Tucson, Arizona 85721.

Time and Date: The meeting will convene at 9 a.m. on Thursday, January 10, 2008 and adjourn the afternoon of January 11, 2008. Meeting information will be available online on the CPDC-S&A 5.3 Web site (http://www.fxsp0;climate.noaa.gov/fxsp0;index.jsp?pg=./ccsp/53.fxsp0;jsp). Please note that meeting location, times, and agenda topics described below are subject to change.

Status: The meeting will be open to public participation and will include a 30-minute public comment period on January 10 from 9-9:30 a.m. The CPDC—S&A 5.3 expects that public statements presented at its meetings will not be repetitive of previously submitted verbal or written statements. In general, each individual or group making a verbal presentation will be limited to a total time of five (5) minutes. Written comments (at least 35 copies) should be received by the CPDC—S&A 5.3 Designated Federal Official (DFO) by December 31, 2007 to provide sufficient time for review. Written comments received after December 31 will be distributed to the CPDC—S&A 5.3, but may not be reviewed prior to the meeting date. Seats will be available to the public on a first-come, first-served basis.

Matters to be Considered: The meeting will (1) formulate responses to the comments received from the special committee of the National Academies of Science (NAS) Committee on the Human Dimensions of Global Change tasked to review the First Draft of Synthesis and Assessment Product 5.3 and revise the First Draft accordingly; (2) finalize plans for completion and submission of the Second Draft of the Synthesis and Assessment Product 5.3 for public review.

FOR FURTHER INFORMATION CONTACT: Dr. Nancy Beller-Simms, CPDC—S&A 5.3 DFO and the Program Manager, NOAA/OAR/Climate Program Office, Sectoral Applications Research Program, 1315 East-West Highway, Room 12221, Silver Spring, Maryland 20910; telephone 301-734-1205, e-mail: Nancy.Beller-Simms@noaa.gov.

Dated: December 4, 2007.
Sharon L. Schroeder,
Acting Chief Financial Officer, Oceanic and Atmospheric Research, National Oceanic and Atmospheric Administration.

[FR Doc. E7-23899 Filed 12-7-07; 8:45 am]

BILLING CODE 3510-KB-P